DEPARTMENT OF AGRICULTURE

Foreign Agricultural Service

Waivers of Requirement for Timely Presentation of Certificates of Quota Eligibility for Sugar Imported From Mexico in Fiscal Year (FY) 2006

AGENCY: Foreign Agricultural Service, USDA.

ACTION: Notice.

The Department of Agriculture will consider requests for a waiver of the requirement for presentation, at the time of entry into U.S. Customs territory, of certificates for quota eligibility for sugar imported under tariff-rate quotas allocated to Mexico during FY 2006 (October 1, 2005-September 30, 2006).

Background

There were numerous disruptions to the U.S. sugar market in FY 2006, leading to spot shortages and increased U.S. import requirements. Importers of sugar under tariff-rate quotas allocated to Mexico experienced delays in receiving certificates for quota eligibility, due in part to processing delays in both the United States and in Mexico. There were also numerous cases of delays at ports of entry into the United States for sugar under tariff-rate quotas even when the certificate for quota eligibility was available, and importers sometimes avoided delays by entering sugar under a high-duty tariff line which did not require a certificate for quota eligibility. Under 15 CFR 2011.104, the Secretary has authority to grant a waiver, with respect to individual shipments, various requirements regarding use of certificates for quota eligibility, if he determines that a waiver will not impair the proper operation of the sugar quota system, that it will not have the effect of modifying the allocation of sugar under Additional U.S. Note 5 to Chapter 17 of the Harmonized Tariff Schedule, and that such waiver is justified by unusual, unavoidable, or otherwise appropriate circumstances.

Therefore, the Department will consider requests for a waiver of the requirement for presentation of certificates of quota eligibility for sugar imported from Mexico during FY 2006. This notice does not apply to requests for a waiver of a deadline to enter sugar within a tariff-rate quota period, and applies only to sugar imported from Mexico during FY 2006. To receive full consideration, written requests for a waiver of the requirement for presentation of a sugar certificate for quota eligibility along with the original entry of sugar from Mexico must be received by December 1, 2006. If Mexico's FY 2006 sugar tariff-rate quota fills, no more waivers will be considered. Individual entries affected by this notice will be processed in the order they are received.

FOR FURTHER INFORMATION CONTACT: Ron Lord, Deputy Director, Import Policies and Programs Division, FAS, USDA, (202) 720-2916, e-mail: Ronald.lord@usda.gov, fax (202) 720-0876.

Dated: October 30, 2006.
W. Kirk Miller,
Acting Administrator, Foreign Agricultural Service.

[FR Doc. 06-9088 Filed 11-6-06; 8:45 am]

BILLING CODE 3410-10-M